ENVIRONMENTAL PROTECTION AGENCY

40 CFR Part 52

[EPA-R04-OAR-2005-FL-0002-200530(b); FRL-8246-1]

Florida: Lockheed Martin Aeronautics Company

AGENCY: Environmental Protection Agency (EPA).

ACTION: Proposed rule.

SUMMARY: Pursuant to section 110 of the Clean Air Act (CAA), 42 U.S.C. 7410, EPA is proposing to approve a revision to the Florida State Implementation Plan (SIP) submitted by the Florida Department of Environmental Protection (FDEP) on June 8, 2005. The revision is source-specific to the Lockheed Martin Aeronautics Company (LM), located in Pinellas County, Florida, and regards that facility's compliance with Florida's Surface Coating of Miscellaneous Metal Parts and Products Reasonably Available Control Technology rule, found at Florida Administrative Code (F.A.C.) Rule 62-296.513 (FL MMPP Rule). The source-specific SIP revision seeks to allow LM to employ as reasonably available control technology (RACT) the control techniques outlined in EPA's December 1997, “Aerospace Control Technique Guidelines” (EPA's Aerospace CTG), instead of the RACT described in the FL MMPP Rule. The source-specific SIP revision is approvable because it meets the standards for approval described in section 110(l) of the CAA.

In the Rules Section of this Federal Register, the EPA is taking direct final action to approve the Florida SIP revision without prior proposal because the Agency views this as a noncontroversial submittal and anticipates no adverse comments. A detailed rationale for the approval is set forth in the direct final action. If no significant, material, and adverse comments are received in response to the direct final action, no further activity is contemplated. If EPA receives adverse comments, the direct final action will be withdrawn and all public comments received will be addressed in a subsequent final action based on this proposed action. The EPA will not institute a second comment period on this document. Any parties interested in commenting on this document should do so at this time.

DATES: Written comments must be received on or before December 28, 2006.

ADDRESSES: Submit your comments, identified by Docket ID No. EPA-R04-OAR-2005-FL-0002, by one of the following methods:

1. http://www.regulations.gov: Follow the on-line instructions for submitting comments.

2. E-mail: hou.james@epa.gov.

3. Fax: (404) 562-9019.

4. Mail: “EPA-R04-OAR-2005-FL-0002,” Regulatory Development Section, Air Planning Branch, Air, Pesticides and Toxics Management Division, U.S. Environmental Protection Agency, Region 4, 61 Forsyth Street, SW., Atlanta, Georgia 30303-8960.

5. Hand Delivery or Courier: James Hou, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Please see the direct final action which is located in the Rules Section of this Federal Register for detailed instructions on how to submit comments.

FOR FURTHER INFORMATION CONTACT: James Hou, Regulatory Development Section, Air Planning Branch, Air, Pesticides and Toxics Management Division, U.S. Environmental Protection Agency, Region 4, 61 Forsyth Street, SW., Atlanta, Georgia 30303-8960. The telephone number is (404) 562-8965. Mr. Hou can also be reached via electronic mail at hou.james@epa.gov.

SUPPLEMENTARY INFORMATION: For additional information see the direct final rule which is published in the Rules Section of this Federal Register.

Dated: November 6, 2006.
A. Stanley Meiburg,
Acting Regional Administrator, Region 4.

[FR Doc. E6-20077 Filed 11-27-06; 8:45 am]

BILLING CODE 6560-50-P